DEPARTMENT OF TRANSPORTATION

Surface Transportation Board

[Docket No. AB 1103X]

Rusk County Rural Rail District—Abandonment Exemption—in Rusk County, TX

On January 18, 2013, the Rusk County Rural Rail District (RCRRD) filed with the Surface Transportation Board (Board) a petition under 49 U.S.C. 10502 for exemption from the prior approval requirements of 49 U.S.C. 10903 to abandon a 0.9-mile portion of its Henderson-Overton Branch Spur, between milepost 15.2 and milepost 16.1, in Rusk County, TX (the Line). The Line traverses U.S. Postal Service Zip Code 75652. There are no stations on the Line.

RCRRD states that, based on information in its possession, the Line contains no federally granted rights-of-way. Any documentation in RCRRD's possession will be made available to those requesting it.

The interest of railroad employees will be protected by the conditions set forth in Oregon Short Line Railroad—Abandonment Portion Goshen Branch Between Firth & Ammon, in Bingham & Bonneville Counties, Idaho, 360 I.C.C. 91 (1979).

By issuance of this notice, the Board is instituting an exemption proceeding pursuant to 49 U.S.C. 10502(b). A final decision will be issued no later than May 8, 2013.

Any offer of financial assistance (OFA) under 49 CFR 1152.27(b)(2) will be due no later than May 18, 2013, or 10 days after service of a decision granting the petition for exemption, whichever occurs sooner. Each OFA must be accompanied by a $1,600 filing fee. See 49 CFR 1002.2(f)(25).

All interested persons should be aware that, following the abandonment of rail service and salvage of the Line, the Line may be suitable for other public use, including interim trail use. Any request for a public use condition under 49 CFR 1152.28 or for trail use/rail banking under 49 CFR 1152.29 will be due no later than February 27, 2013. Each trail use request must be accompanied by a $250 filing fee. See 49 CFR 1002.2(f)(27).

All filings in response to this notice must refer to Docket No. AB 1103X and must be sent to: (1) Surface Transportation Board, 395 E Street SW., Washington, DC 20423-0001; and (2) C. Brian Cassidy and Lori Fixley Winland, Locke Lord LLP, 100 Congress Avenue, Suite 300, Austin, TX 78701. Replies to the petition are due on or before February 27, 2013.

Persons seeking further information concerning abandonment procedures may contact the Board's Office of Public Assistance, Governmental Affairs and Compliance at (202) 245-0238 or refer to the full abandonment or discontinuance regulations at 49 CFR 1152. Questions concerning environmental issues may be directed to the Board's Office of Environmental Analysis (OEA) at (202) 245-0305. [Assistance for the hearing impaired is available through the Federal Information Relay Service (FIRS) at 1-800-877-8339.]

An environmental assessment (EA) (or environmental impact statement (EIS), if necessary) prepared by OEA will be served upon all parties of record and upon any agencies or other persons who comment during its preparation. Other interested persons may contact OEA to obtain a copy of the EA (or EIS). It is anticipated that the EA (or EIS) in this proceeding will be made available on or about February 12, 2013, and that comments will be due on or about March 4, 2013.

Board decisions and notices are available on our Web site at www.stb.dot.gov.

Decided: February 4, 2013.
By the Board, Rachel D. Campbell, Director, Office of Proceedings.
Derrick A. Gardner,
Clearance Clerk.

[FR Doc. 2013-02779 Filed 2-6-13; 8:45 am]

BILLING CODE 4915-01-P